NATIONAL AERONAUTICS AND SPACE ADMINISTRATION

[Notice 05-048]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: March 17, 2005.

FOR FURTHER INFORMATION CONTACT: Kent N. Stone, Patent Counsel, Glenn Research Center at Lewis Field, Code 500-118, Cleveland, OH 44135; telephone (216) 433-8855; fax (216) 433-6790.

NASA Case No. LEW-17605-1: Skin Modified Aerogel Monoliths For Improved Ruggedness And Lower Hydrophylicity;

NASA Case No. LEW-17483-1: Hand Held Device For Wireless Powering And Interrogation Of BioMEMS Sensors And Actuators;

NASA Case No. LEW-17236-2: Mouse Cleaning Apparatus;

NASA Case No. LEW-17704-1: Cathode Luminescence Light Source For Broad Band Application In The Visible Spectrum.

Dated: March 10, 2005.
Keith T. Sefton,
Deputy General Counsel, Administration and Management.

[FR Doc. 05-5252 Filed 3-16-05; 8:45 am]

BILLING CODE 7510-13-P